DEPARTMENT OF JUSTICE

Notice of Lodging of Consent Decree Under the Comprehensive Environmental Response, Compensation and Liability Act and Clean Water Act

Notice is hereby given that on May 3, 2012, a proposed Consent Decree in United States v. Cabot Corporation, et. al., Civil Action No. 1:12-cv-01097 was lodged with the United States District Court for the Northern District of Ohio.

The complaint filed by the United States in this action asserts claims under Section 107(a) of the Comprehensive Environmental Response, Compensation and Liability Act, as amended (“CERCLA”), 42 U.S.C. 9607(a), and Section 311(f) of the Clean Water Act, as amended (“CWA”), 33 U.S.C. 1321(f), to recover damages for injuries to natural resources in the lower Ashtabula River and Harbor. The United States' complaint asserts claims against 18 separate parties, based on alleged releases or discharges of hazardous substances from numerous industrial facilities that operated in Ashtabula at various times since the 1940s. Concurrently with the filing of the United States' complaint, the State of Ohio also filed a complaint under CERCLA, the CWA, and other authorities, seeking to recover damages for injuries to resources in the lower Ashtabula River and Harbor. The State's complaint asserts claims against all of the parties named as defendants in the United States' complaint, as well as certain entities that are part of the federal government.

The proposed Consent Decree would resolve all claims assert in the complaints filed by the United States and the State of Ohio, as well as certain potential claims of the private party defendants against the United States. Under the terms of the proposed settlement, Settling Defendants and Settling Federal Agencies will collectively pay more than $2.3 million to federal and state natural resource damages funds as reimbursement for natural resource damage assessment costs previously incurred by federal and state natural resource trustees in connection with the Ashtabula River site. In addition, Settling Defendants will implement a number of natural resource damage restoration projects in accordance with plans approved by federal and state natural resource trustees. Finally, the proposed settlement provides for Settling Defendants to pay a total of $440,000 to the Trustees for future restoration activities, including costs that may be incurred by the Trustees in connection with restoration projects undertaken by the Settling Defendants.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Cabot Corporation, et al., D.J. Ref. 90-11-2-210/1.

During the public comment period, the Consent Decree may also be examined on the following Department of Justice Web site, http://www.usdoj.gov/enrd/Consent_Decrees.html. A copy of the Consent Decrees may also be obtained by mail from the Consent Decree Library, P.O. Box 7611, U.S. Department of Justice, Washington, DC 20044-7611 or by faxing or emailing a request to “Consent Decree Copy” (EESCDCopy.ENRD@usdoj.gov), fax number (202) 514-0097, phone confirmation number (202) 514-5271. If requesting a copy of the Consent Decree from the Consent Decree Library by mail, please enclose a check in the amount of $87.00 (25 cents per page reproduction cost) payable to the U.S. Treasury or, if requesting by email or fax, forward a check in that amount to the Consent Decree Library at the address given above. In requesting a copy exclusive of exhibits and defendants' signatures, please enclose a check in the amount of $17.50 (25 cents per page reproduction cost) payable to the United States Treasury.

Maureen Katz,
Assistant Section Chief, Environmental Enforcement Section, Environment and Natural Resources Division, United States Department of Justice.

[FR Doc. 2012-11128 Filed 5-8-12; 8:45 am]

BILLING CODE 4410-15-P